SMALL BUSINESS ADMINISTRATION

[Disaster Declaration #14579 and #14580]

Idaho Disaster #ID-00060

AGENCY: U.S. Small Business Administration.

ACTION: Notice.

SUMMARY: This is a Notice of the Presidential declaration of a major disaster for Public Assistance Only for the State of Idaho (FEMA-4246-DR), dated 12/23/2015.

Incident: Severe storms and straight-line winds.

Incident Period: 11/17/2015.

Effective Date: 12/23/2015.

Physical Loan Application Deadline Date: 02/22/2016.

Economic Injury (EIDL) Loan Application Deadline Date: 09/23/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416

SUPPLEMENTARY INFORMATION: Notice is hereby given that as a result of the President's major disaster declaration on 12/23/2015, Private Non-Profit organizations that provide essential services of governmental nature may file disaster loan applications at the address listed above or other locally announced locations.

The following areas have been determined to be adversely affected by the disaster:

Primary Counties:

Benewah Bonner Boundary, Kootenai, and the Coeur D'Alene Tribe.

The Interest Rates are:

| Percent
For Physical Damage:
Non-Profit Organizations with Credit Available Elsewhere | 2.625
Non-Profit Organizations without Credit Available Elsewhere | 2.625
For Economic Injury:
Non-Profit Organizations without Credit Available ElsewheRE | 2.625

The number assigned to this disaster for physical damage is 14579B and for economic injury is 14580B.

(Catalog of Federal Domestic Assistance Numbers 59008)

Jerome Edwards,
Acting Associate Administrator for Disaster Assistance.

[FR Doc. 2016-00357 Filed 1-11-16; 8:45 am]

BILLING CODE 8025-01-P